DEPARTMENT OF COMMERCE

International Trade Administration

[A-122-823]

Certain Cut-to-Length Carbon Steel Plate From Canada: Preliminary Results of Antidumping Duty Administrative Review

AGENCY: Import Administration, International Trade Administration, U.S. Department of Commerce.

ACTION: Notice of preliminary results of antidumping duty administrative review.

SUMMARY: In response to a request from Clayson Steel Inc. (Clayson), the Department of Commerce (the Department) is conducting an administrative review of the antidumping duty order on certain cut-to-length carbon steel plate (CTL plate) from Canada. This review covers one manufacturer/exporter of CTL plate, Clayson, for the period August 1, 1999 through December 31, 1999.

We have preliminarily determined that sales have been made below normal value (NV) by the company subject to this review. See “Preliminary Results of Review” section below for the company-specific rate. If these preliminary results are adopted in our final results of this administrative review, we will instruct the U.S. Customs Service to assess antidumping duties based on the difference between the export price (EP) and the NV.

EFFECTIVE DATE: September 4, 2001.

FOR FURTHER INFORMATION CONTACT: Mark Hoadley at (202) 482-0666 or Julio Fernandez at (202) 482-0190, Import Administration, International Trade Administration, U.S. Department of Commerce, 14th Street and Constitution Avenue, NW., Washington, DC 20230.

SUPPLEMENTARY INFORMATION:

The Applicable Statute

Unless otherwise indicated, all citations to the Tariff Act of 1930, as amended (the Act), are to the provisions effective January 1, 1995, the effective date of the amendments made to the Act by the Uruguay Round Agreements Act. In addition, unless otherwise indicated, all citations to the Department's regulations are to 19 CFR part 351 (April 1999).

Background

The Department published in the Federal Register antidumping duty orders on certain corrosion-resistant carbon steel flat products (CORE) and CTL plate from Canada on August 19, 1993. See Antidumping Duty Orders: Certain Corrosion-Resistant Carbon Steel Flat Products and Certain Cut-to-Length Carbon Steel Plate from Canada, 58 FR 44162 (August 19, 1993). The Department received timely requests from interested parties to conduct administrative reviews for the August 1, 1999 through July 31, 2000 period, pursuant to section 351.213(b) of the Department's regulations. On September 26, 2000, we initiated an administrative review of three manufacturers/exporters of CTL plate: Stelco Inc. (Stelco), Clayson, and Gerdau MRM Steel (MRM).

On December 8, 2000, the Department revoked the antidumping duty order on CTL plate from Canada, effective January 1, 2000, pursuant to a determination by the U.S. International Trade Commission (ITC) under section 751(c) of the Act. See Revocation of Antidumping and Countervailing Duty Orders on Certain Carbon Steel Products From Canada, Germany, Korea, the Netherlands, and Sweden, 65 FR 78467 (December 15, 2000) (Revocation Notice). As a result of the revocation of this order, the period of review (POR) for the seventh administrative review of CTL plate is shortened to the period from August 1, 1999 through December 31, 1999.

Under section 751(a)(3)(A) of the Act, the Department may extend the deadline for completion of an administrative review if it determines that it is not practicable to complete the review within the statutory time limit of 365 days. On March 1, 2001, the Department published a notice of extension of the time limit for the preliminary results in this review to August 31, 2001. See Certain Corrosion-Resistant Carbon Steel Flat Products and Certain Cut-to-Length Carbon Steel Plate: Extension of Time Limits for Preliminary Results of Antidumping Administrative Review, 66 FR 12924 (March 1, 2001).

On May 8, 2001, MRM withdrew its request for a review of CTL plate. The petitioner withdrew its request for an administrative review of CTL plate with respect to Stelco and MRM, the only producers of CTL plate for which it had requested a review, on December 13, 2000, and on May 11, 2001, respectively. On July 27, 2001, the Department rescinded, in part, the antidumping duty administrative review of CTL plate, due to the withdrawal of requests for review by the interested parties. See Certain Corrosion-Resistant Carbon Steel Flat Products and Certain Cut-to-Length Carbon Steel Plate from Canada: Rescission in Part and in Whole of Antidumping Duty Administrative Reviews, 66 FR 39145 (July 27, 2001).

The Department is conducting this review in accordance with section 751(a) of the Act.

Scope of Review

CTL plate includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule of the United States (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included in this review are flat-rolled products of non-rectangular cross-section where such cross-section is achieved subsequent to the rolling process (i.e., products which have been “worked after rolling”)—for example, products which have been beveled or rounded at the edges. Excluded from this review is grade X-70 plate. Also excluded is cut-to-length carbon steel plate meeting the following criteria: (1) 100% dry steel plates, virgin steel, no scrap content (free of Cobalt-60 and other radioactive nuclides); (2) .290 inches maximum thickness, plus 0.0, minus .030 inches; (3) 48.00 inch wide, plus .05, minus 0.0 inches; (4) 10 foot lengths, plus 0.5, minus 0.0 inches; (5) flatness, plus/minus 0.5 inch over 10 feet; (6) AISI 1006; (7) tension leveled; (8) pickled and oiled; and (9) carbon content, 0.03 to 0.08 (maximum).

The HTSUS item numbers are provided for convenience and U.S. Customs Service (Customs) purposes. The written description remains dispositive of the scope of this review.

Product Comparisons

In accordance with section 771(16) of the Act, we considered all products produced by the respondent that are covered by the description in the “Scope of Review” section above and sold in the home market during the POR to be foreign like products for purposes of determining appropriate product comparisons to U.S. sales. After conducting a sales-below-cost test, we had exact matches remaining between products sold in the U.S. and the home market for all U.S. sales, and, therefore, did not have to resort to constructed value (CV) or difference in merchandise (DIFMER) adjustments.

Normal Value Comparisons

To determine whether sales of subject merchandise to the United States were made at less than NV, we compared the EP to NV, as described in the “United States Price” and “Normal Value” sections of this notice. In accordance with section 777A(d)(2) of the Act, we calculated monthly weighted-average prices for NV and compared these to individual U.S. transaction prices.

United States Price

Clayson had no constructed export price (CEP) sales. The Department calculated EP for Clayson based on packed, delivered prices to customers in the United States. Pursuant to section 772(c)(2)(A) of the Act, we made deductions from the U.S. gross unit price for U.S. movement expenses (i.e., U.S. brokerage and duty expenses, and inland freight).

We determined invoice date was the proper measurement of date of sale for Clayson's transactions, pursuant to both the commercial realities of Clayson's home market and U.S. sales during the POR and the Department's preference for invoice date, as articulated in section 351.401(i) of the Department's regulations.

Normal Value

The Department determines the viability of the home market and the comparison market by comparing the aggregate quantity of home market and U.S. sales. Section 351.404(b)(2) of the Department's regulations states that if “the aggregate quantity * * * of the foreign like product sold by an exporter or producer in a country is 5 percent or more of the aggregate quantity * * * of its sales of the subject merchandise to the United States” then it has a viable home market for the subject merchandise. 19 CFR 351.404(b)(2) (defining “sufficient quantity”). We have determined that Clayson has a viable home market pursuant to this provision. Moreover, there is no evidence on the record supporting a particular market situation in the exporting company's country that would not permit a proper comparison of home market and U.S. prices. Therefore, in accordance with section 773(a)(1)(B)(i) of the Act, we have based NV on the price at which the foreign like product was first sold for consumption in the home market, in the usual commercial quantities and in the ordinary course of trade and, to the extent practicable, at the same level of trade (LOT) as the U.S. sale.

Clayson made no home market sales to affiliated parties. Home market prices were based on the packed, delivered prices to purchasers in the home market. We made deductions from the home market price for an early payment discount, home market direct selling expenses (i.e., credit expenses), home market movement expenses (i.e., inland freight), and home market packing expenses in accordance with 773(a)(6)(B) of the Act. Furthermore, we added to the home market price amounts for U.S. direct selling expenses (i.e., credit expenses) and U.S. packing expenses in accordance with 773(a)(6)(A) of the Act.

As discussed above, pursuant to both the commercial realities of Clayson's home market and U.S. sales during the POR and the Department's regulatory preference for invoice date, the Department determined that the date of sale for Clayson's transactions was best reflected in the date of invoice.

Level of Trade

In accordance with section 773(a)(1)(B) of the Act, to the extent practicable, we determine NV based on sales in the comparison market at the same LOT as U.S. sales. In both the home market and the United States, Clayson reported one LOT and one distribution system, with one class of customer, original equipment manufacturers (OEMs), in both the home and U.S. markets. We compared the selling functions performed at the home market LOT with those performed at the U.S. LOT and found them to be substantially similar.

Preliminary Results of Review

As a result of our review, we preliminarily determine the weighted-average dumping margin for the period August 1, 1999 through December 31, 1999 to be as follows:

Manufacturer/Exporter: Clayson.

Margin Percentage: 1.37%.

The Department will disclose to the parties to the proceeding calculations performed in connection with these preliminary results of review within ten days after the date of public announcement, or, if there is no public announcement, within five days after the date of publication of these preliminary results of review.

Any interested party may request a hearing within 30 days of publication. Any hearing, if requested, will be held 37 days after the date of publication or the first business day thereafter. Case briefs from interested parties may be submitted not later than 30 days after publication. Rebuttal briefs, limited to issues raised in case briefs, may be filed not later than five days after the date of filing of case briefs. The Department will publish the final results of this administrative review, including its analysis of issues raised in the case and rebuttal briefs, not later than 120 days after the date of publication of this notice.

Upon issuance of the final results of review, the Department shall determine, and Customs shall assess, antidumping duties on all appropriate entries. In accordance with 19 CFR 351.212(b), we will calculate importer-specific ad valorem duty assessment rates. This rate will be assessed uniformly on all entries of each particular importer made during the POR.

As noted above, as a result of a sunset review by the ITC, the Department has revoked the antidumping duty order for CTL plate from Canada, effective January 1, 2000. See Revocation Notice. Therefore, we have instructed Customs to terminate suspension of liquidation for all entries of CTL plate made on or after January 1, 2000, and further calculation of antidumping cash deposit requirements for this merchandise is no longer necessary.

This notice serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review is being conducted and the notice published in accordance with sections 751(a)(1) of the Act (19 U.S.C. 1675(a)(1)) and 777(i)(1) of the Act (19 U.S.C 1677f(i)(1)).

Dated: August 24, 2001.
Richard W. Moreland,
Acting Assistant Secretary.

[FR Doc. 01-22147 Filed 8-31-01; 8:45 am]

BILLING CODE 3510-DS-P